DEPARTMENT OF HEALTH AND HUMAN SERVICES

Centers for Medicare & Medicaid Services

[CMS-1257-N]

Medicare Program: Notice of the Practicing Physicians Advisory Council Rechartering

AGENCY: Centers for Medicare & Medicaid Services (CMS), HHS.

ACTION: Notice.

SUMMARY: This notice announces the rechartering of Practicing Physicians Advisory Council (the Council). In accordance with the Federal Advisory Committee Act (5 U.S.C. App. 2), this notice announces that as of June 12, 2003 the Practicing Physicians Advisory Council (the Council) has been rechartered for a 2-year period, through June 12, 2005. The charter will terminate on June 12, 2005, unless the Council is rechartered by the Secretary.

FOR FURTHER INFORMATION CONTACT: Diana Motsiopoulos, Administrative Coordinator, Centers for Medicare & Medicaid Services, 7500 Security Blvd., Mail Stop: C4-11-27, Baltimore, MD 21244-1850. Telephone 410-786-3379, fax (410) 786-1710, E-mail: dmotsiopoulos@cms.hhs.gov.

SUPPLEMENTARY INFORMATION:

I. Background

The Secretary of the Department of Health and Human Services (the Secretary) is mandated by section 1868(a) of the Social Security Act (the Act) to appoint a Practicing Physicians Advisory Council (the Council) based on nominations submitted by medical organizations representing physicians. The Council meets quarterly to discuss certain proposed changes in regulations and carrier manual instructions related to physicians' services. To the extent feasible and consistent with statutory deadlines, the consultation must occur before the publication of the proposed changes. The Council submits its recommendations in an annual report to the Secretary and the Administrator of the Centers for Medicare & Medicaid Services no later than December 31 of each year.

The Council consists of 15 physicians, each of whom has submitted at least 250 claims for physician services under Medicare in the previous year. At least 11 members of the Council must be physicians as described in Section 1861(r)(1) of the Act; that is, State-licensed doctors of medicine or osteopathy. The other 4 Council members may include dentists, podiatrists, optometrists and chiropractors. The Council includes both participating and nonparticipating physicians, as well as physicians practicing in rural and underserved urban areas. Members serve for overlapping 4-year terms; terms of more than 2 years are contingent upon the renewal of the Council by appropriate action prior to its termination.

Section 1868(a) of the Act provides that nominations to the Secretary for Council membership must be made by medical organizations representing physicians.

I. Provisions of This Notice

This notice announces the signing of the Practicing Physicians Advisory Council (PPAC) charter (recharter) by the Secretary. The charter will terminate on June 12, 2005, unless rechartered before the expiration date.

II. Copies of the Charter

You may obtain a copy of the charter for the PPAC by submitting a request to Diana Motsiopoulos, Administrative Coordinator, Centers for Medicare & Medicaid, 7500 Security Blvd., Mail Stop: C4-11-27, Baltimore, MD 21244-1850, (410) 786-3379 or E-mail the request to dmotsiopoulos@cms.hhs.gov. A copy of the charter will also be available on the Internet at http://www.cms.hhs.gov/faca/ppac/default.asp.

Authority: Section 1868 of the Social Security Act (42 U.S.C. 1395ee) and (5 U.S.C. App. 2)

(Catalog of Federal Domestic Assistance Program No. 93.773, Medicare—Hospital Insurance; and Program No. 93.774, Medicare—Supplementary Medical Insurance Program)

Dated: June 11, 2003.
Thomas A. Scully,
Administrator, Centers for Medicare & Medicaid Services.

[FR Doc. 03-16055 Filed 6-26-03; 8:45 am]

BILLING CODE 4120-01-P